SMALL BUSINESS ADMINISTRATION

[License No. 02/72-0610]

Gefus SBIC, L.P.; Notice Seeking Exemption Under Section 312 of the Small Business Investment Act, Conflicts of Interest

Notice is hereby given that Gefus SBIC, L.P., 375 Park Avenue, Suite 2401, New York, NY 10152, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2006)). Gefus SBIC, L.P. proposes to provide equity security financing to Patton Surgical Inc. 1000 Westbank Drive, Suite 5A200 Austin, TX 78746. The financing is contemplated for operating expenses and for general corporate purposes.

The financing is brought within the purview of § 107.730(a)(1) of the Regulations because Admiral Bobby R. Inman, an Associate of Gefus SBIC, L.P., owns more than ten percent of Patton Surgical, Inc. Therefore, Patton Surgical, Inc. is also considered an Associate of Gefus SBIC, L.P., as defined at 13 CFR 107.50 of the SBIC Regulations.

Notice is hereby given that any interested person may submit written comments on the transaction to the Associate Administrator for Investment, U.S. Small Business Administration, 409 3rd Street, SW., Washington, DC 20416.

Jaime Guzmán-Fournier,
Associate Administrator for Investment.

[FR Doc. E6-21801 Filed 12-20-06; 8:45 am]

BILLING CODE 8025-01-P